DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before June 16, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Lawrence D. Reynolds, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-012-C.

Petitioner: Blue Diamond Coal Company, P.O. Box 47, Slemp, Kentucky 41763.

Mine: Mine #81, MSHA I.D. No. 15-12753, located in Leslie County, Kentucky.

Regulation Affected: 30 CFR 75.364(b)(1) (Weekly examination).

Modification Request: The petitioner requests a modification of the existing standard to permit check points (examination points) to be established in six locations of the Turkey Creek Cutout Mains due to poor roof conditions. The petitioner proposes to establish examination points at certain points to evaluate airflow entering the Turkey Creek Cutout Mains and exiting the Turkey Creek Cutout Mains. The petitioner also proposes to establish ventilation check points between certain breaks of the Turkey Creek Cutout Mains. The petitioner states that: (1) The size of the areas that has adverse roof conditions is substantial and would expose rehabilitation crews to draw rock hazards unnecessarily; (2) the Turkey Creek Cutout Mains has value for the mines from a ventilation standpoint and it is mine managements' desire not to seal these portals; (3) the areas are no longer utilized from supplies or personnel travel; (4) the area will continue to be examined as required by the standard, but evaluation of the inlet and outlet would provide the necessary examination without exposing the mine personnel to roof hazards; and (5) no less degree of safety is ensured by traveling to both ends of the mains and verifying adequate air volume and quality at the noted evaluation points and check points. The petitioner asserts that the proposed alternative method will at all times guarantee no less than the same measure of protection afforded by the existing standard.

Docket Number: M-2008-013-C.

Petitioner: South Tamaqua Coal Pockets, Inc., 804 West Penn Pike, Tamaqua, Pennsylvania 18252.

Mine: Yorktown Operation, MSHA I.D. No. 36-09088, located in Luzerne County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Docket Number: M-2008-014-C through M-2008-018-C.

Petitioner: AMFIRE Mining Company, LLC, One Energy Place, Latrobe, Pennsylvania 15650.

Mine: Ondo Extension Mine, MSHA I.D. No. 36-09005, Nolo Mine, MSHA I.D. No. 36-08850, Gillhouser Run Mine, MSHA I.D. No. 36-09033, all located in Indiana County, Pennsylvania; Madison Mine, MSHA I.D. No. 36-09127, located in Cambria County, Pennsylvania; and Dora 8 Mine, MSHA I.D. No. 36-08704, located in Jefferson County, Pennsylvania.

Regulation Affected: 30 CFR 75.500(d) (Permissible electric equipment).

Modification Request: The petitioner requests a modification of the existing standard to permit the use of low-voltage or battery-powered non-permissible electronic testing and diagnostic equipment in or inby the last open crosscut or within 150 feet of pillar workings, under controlled conditions, for testing and diagnosing mining equipment. The petitioner proposes to use the following equipment within 150 feet of pillar workings. The petitioner seeks modification of 30 CFR 75.500(d) and any other applicable standards as they pertain to restricting the use of non-permissible or non-intrinsically safe electrical testing and diagnostic equipment used by maintenance personnel for trouble shooting and repair of mining equipment commonly used and accepted which may include, but is not limited to: Laptop computers, oscilloscopes, vibration analysis machines, cable fault detectors, point temperature probes, infrared temperature devices, insulation testers (meggers), voltage, current and power measurement devices and recorders, pressure flow measurement devices, signal analyzer devices, ultrasonic thickness gauges, electronic component testers, and electronic tachometers. The petitioner states that: (1) Application of the existing standard will result in a diminution of safety to the miners; (2) mining equipment by its nature, size, complexity, and location require that when disabled and requiring repair the equipment is nearly impossible and potentially unsafe to move or attempt to move to a location out by the last open crosscut in order to use non-permissible testing and diagnostic equipment; (3) all non-permissible electronic testing and diagnostic equipment used in or inby the last open crosscut will be examined by a qualified person as defined in 30 CFR 75.153 prior to use to ensure the equipment is being maintained in a safe operating condition; (4) examination results will be recorded in the weekly examination of electrical equipment book; (5) a qualified person will continuously monitor for methane immediately before and during the use of non-permissible electronic test and diagnostic equipment in or inby the last open crosscut; (6) if 1.0 percent or more of methane is detected while the non-permissible electronic testing and diagnostic equipment is being used, the equipment will be de-energized immediately and the non-permissible electronic equipment will be withdrawn outby the last open crosscut or to a minimum of 150 feet outby the pillar workings; (7) all hand-held methane detectors will be MSHA-approved and maintained in permissible and proper operating condition as defined under 30 CFR 75.75.320; and (8) qualified personnel using the electronic test and diagnostic equipment will be properly trained to recognize the hazards and limitations associated with the use of electronic test and diagnostic equipment. The petitioner further states that the proposed methods and conditions will be included in the initial and annual refresher training and the approved Part 48 training plans, to ensure that miners are aware of the stipulations contained in this petition. Persons may review a complete description of petitioner's alternative method and procedures at the MSHA address listed in the notice. The petitioner asserts that the proposed alternative method will in no way provide less than the same measure of protection than that afforded the miners under the existing standard.

Docket Number: M-2008-019-C.

Petitioner: White County Coal, LLC, 1525 County Road 1300 N, P.O. Box 457, Carmi, Illinois 62821.

Mine: Pattiki Mine, MSHA I.D. No. 11-03058, located in White County, Illinois.

Regulation Affected: 30 CFR 75.503 (Permissible electric face equipment; maintenance) and 30 CFR 18.35(a)(5)(i) and (ii) (Portable (trailing) cables and cords).

Modification Request: The petitioner requests a modification of the existing standard to permit the maximum length of trailing cables to be increased for supplying power to permissible pumps. The petitioner states that: (1) This petition will only apply to trailing cables supplying three-phase 480-volt power for permissible pumps; (2) the maximum length of the 480-volt power for permissible pumps will be 4000 feet; (3) the 480-volt power for permissible pump trailing cables will not be smaller than #6 American Wire Gauge (AWG); (4) all circuit breakers used to protect #6 AWG trailing cables exceeding 500 feet in length will have an instantaneous trip unit calibrated to trip at 60 amperes; (5) the circuit breakers trip setting will be sealed or locked, and have permanent legible labels identifying the circuit breakers as being suitable for protecting #6 AWG cables; (6) replacement of instantaneous trip units used to protect #6 AWG trailing cables exceeding 500 feet in length will be calibrated to trip at 60 amperes and this setting will be sealed or locked; (7) all circuit breakers used to protect #2 AWG trailing cables exceeding 500 feet in length will have instantaneous trip units calibrated to trip at 150 amperes and the trip setting of these circuit breakers will be sealed or locked and will have permanent legible labels that will be maintained as legible to identify the circuit breaker as being suitable for protecting #2 AWG cables; (8) replacement of instantaneous trip units, used to protect #2 AWG trailing cables exceeding 500 feet in length will be calibrated to trip at 150 feet in length and calibrated to trip at 150 amperes and the setting will be sealed or locked; and (9) permanent warning labels will be installed and maintained on the cover(s) of the power center identifying the location of each sealed or locked short-circuit protection device to warn the miners not to change or alter the short-circuit settings. Persons may review a complete description of petitioner's alternative method and procedures at the MSHA address listed in the notice. The petitioner states that the alternative method will not be implemented until miners designated to examine the integrity of the seals or locks verify the short-circuit settings, and proper procedures training has been provided for examining trailing cables for defects and damage. The training for the miners will include the following elements: (1) Training in mining methods and operating procedures for protecting the trailing cables against damage; (2) training in the proper procedures for examining the trailing cables to ensure safe operating conditions; (3) training in the hazards of setting the instantaneous circuit breakers too high to adequately protect the trailing cables; and (4) training on how to verify that interrupting device(s) protecting the trailing cable(s) are properly set and maintained. The petitioner further states that within 60 days after the petition is granted, revisions to the Part 48 training plan will be submitted to the District Manager for the area in which the mine is located. The petitioner asserts that the proposed alternative method will at all times guarantee no less than the same measure of protection to the miners as would be provided by the existing standard.

Dated: May 12, 2008.
Jack Powasnik,
Deputy Director, Office of Standards, Regulations, and Variances.

[FR Doc. E8-10943 Filed 5-15-08; 8:45 am]

BILLING CODE 4510-43-P